DEPARTMENT OF THE INTERIOR

Bureau of Land Management

[LLMTC040000.L16100000.DP0000.LXSS059E0000 MO# 4500079352]

Notice of Availability of the South Dakota Field Office Proposed Resource Management Plan and Final Environmental Impact Statement, South Dakota Field Office, Montana

AGENCY: Bureau of Land Management, Interior.

ACTION: Notice of Availability.

SUMMARY: In accordance with the National Environmental Policy Act of 1969 (NEPA), as amended, and the Federal Land Policy and Management Act of 1976 (FLPMA), as amended, the Bureau of Land Management (BLM) has prepared a Proposed Resource Management Plan (RMP) and Final Environmental Impact Statement (EIS) for the South Dakota Field Office and by this notice is announcing its availability.

DATES: BLM planning regulations state that any person who meets the conditions as described in the regulations may protest the BLM's Proposed RMP/Final EIS. A person who meets the conditions and files a protest must file the protest within 30 days of the date that the Environmental Protection Agency publishes its notice of availability in the Federal Register.

ADDRESSES: Copies of the South Dakota Field Office Proposed RMP/Final EIS have been sent to affected Federal, State, and local government agencies, tribal governments and to other stakeholders and members of the public. Copies of the Proposed RMP/Final EIS are available for public inspection at the following locations:

• BLM, South Dakota Field Office, 310 Roundup Street, Belle Fourche, SD 57717.

• BLM, Montana/Dakota BLM State Office, 5001 Southgate Drive, Billings, Montana 59101.

• BLM, Meade County Courthouse, 1300 Sherman Street, Sturgis, SD 57785.

• USFS, Fort Pierre National Grasslands, 1020 N. Deadwood Street, Pierre, SD 57532.

• USFS, Wall Ranger District, 708 Main Street, Wall, SD 57790.

Copies of the Proposed RMP/EIS may also be viewed on the internet at http://www.blm.gov/mt/st/en/fo/south_dakota_field/rmp.html.

All protests must be in writing and mailed to one of the following addresses:

Regular Mail: BLM Director (210), Attention: Protest Coordinator, P.O. Box 71383, Washington, DC 20024-1383.

Overnight Delivery: BLM Director (210), Attention: Protest Coordinator, 20 M Street SE., Room 2134LM, Washington, DC 20003.

FOR FURTHER INFORMATION CONTACT: Mitch Iverson, RMP Project Manager, telephone: 605-892-7008; or Lori (Chip) Kimball, BLM South Dakota Field Manager, telephone: 605-892-7000; address: 310 Roundup Street, Belle Fourche, SD 57717; email: BLM_MT_South_Dakota_RMP@blm.gov. Persons who use a telecommunications device for the deaf (TDD), may call the Federal Information Relay Service (FIRS), at 1-800-877-8339, to contact the above individuals during normal business hours. The FIRS is available 24 hours a day, 7 days a week, to leave a message or question with the above individuals. You will receive a reply during normal business hours.

SUPPLEMENTARY INFORMATION: The planning area includes lands within the BLM South Dakota Field Office administrative boundaries which includes all lands, regardless of jurisdiction, in the State of South Dakota, however, the BLM will only make decisions on lands that fall under the BLM's jurisdiction. The BLM administers 274,239 acres of public land surface and approximately 1.72 million acres of federal mineral estate. Over 98 percent of the BLM-administered surface and Federal mineral estate in the decision area is located in western South Dakota. Counties with substantial amounts of BLM-administered surface or mineral estate (over 1 percent of the county land base), include Butte, Custer, Fall River, Haakon, Harding, Lawrence, Meade, Pennington, Perkins, and Stanley counties in western South Dakota. Other counties with small amounts of BLM-administered surface or federal minerals (less than 1 percent of the county land base), include Bennett, Bon Homme, Brule, Campbell, Charles Mix, Clark, Clay, Corson, Dewey, Edmunds, Faulk, Gregory, Hand, Hughes, Hyde, Jackson, Jones, Lyman, Marshall, McPherson, Mellette, Potter, Sully, Tripp, Walworth, Yankton, and Ziebach counties in South Dakota. An updated inventory of lands with wilderness characteristics was completed for the planning area and data from the inventory was analyzed in the Draft RMP/EIS. The revised RMP will replace the South Dakota RMP of 1986, as amended, and provide the South Dakota Field Office with an updated framework in which to administer the BLM-managed public lands in the planning area.

The formal scoping period began with the publication of the Notice of Intent (NOI) in the Federal Register on July 19, 2007 (72 FR 39638). From August through October 2007, nine scoping meetings were held across the planning area. In addition to the nine scoping meetings, four open house meetings were held to address the concerns of Native American tribes. During scoping, the BLM requested public input to identify resource issues and concerns, management alternatives, or other ideas to help in determining future land use decisions for the planning area. The Draft RMP/EIS was made available for public review for a 90-day period on June 14, 2013 (78 FR 35959). Initially, the Federal Register NOI announced scoping for both North Dakota and South Dakota RMP revisions; however, based on the diverse planning issues and other management considerations, the South Dakota RMP revision continued ahead, and an RMP revision specific to North Dakota BLM will be addressed at a later date.

The issues raised during scoping included energy development, vegetation management, wildlife habitat, special status species management, Greater Sage-Grouse, travel, access, commercial uses, land tenure adjustments, visual resource management, and climate change. The BLM invited local, State, Federal, and tribal representatives to participate as cooperating agencies on the South Dakota RMP/EIS.

The Proposed RMP/Final EIS includes a range of management actions within four management alternatives, including the No-Action Alternative. These alternatives address the goals, management challenges, and issues raised during scoping.

The four alternatives analyzed are:

1. Alternative A: Continues existing management practices (No-Action Alternative).

2. Alternative B: Emphasizes commercial resource development and use while providing adequate levels of resource protection.

3. Alternative C: Emphasizes conservation of natural resources while providing for compatible development and use.

4. Alternative D (Proposed): Provides development opportunities and conserves high value and sensitive resources.

The South Dakota Field Office has identified Alternative D as the Proposed RMP. Alternative D supports management of greater sage-grouse seasonal habitats and maintaining habitat connectivity to achieve population objectives.

Two ACECs are currently designated in the existing South Dakota RMP and were re-evaluated and addressed in this Proposed RMP/Final EIS. All alternatives (including the Proposed Plan) would propose to maintain the two existing ACECs, as summarized below:

Fort Meade Recreation Area ACEC (6,574 acres):

• Relevant and Important Values: Historical and archeological.

• Limitations on the Following Uses: Closed to leasable and salable minerals, closed to geophysical exploration, recommended for withdrawal from appropriation under the mining laws.

• Other Restrictions: Right-of-way (ROW) exclusion area except in designated ROW corridors, motorized vehicle use limited to designated roads and trails, snowmobiles or machines specifically equipped to travel over snow prohibited, closed to construction of new roads except rerouting of existing roads to address resource impacts or safety, and the continued designation as a back country byway of the route that traverses the southern portion of the ACEC.

Fossil Cycad ACEC (320 acres):

• Relevant and Important Values: Paleontological.

• Proposed Use Limitations: Closed to fluid minerals within the ACEC, closed to salable Federal minerals, sale of forest products not be allowed, collection of fossils without a BLM permit not allowed, and locatable Federal minerals recommended for withdrawal from appropriation under the mining laws.

• Other Restrictions: ROW exclusion area.

The South Dakota Field Office Proposed RMP/Final EIS is one of a total of 15 separate EISs that make up the BLM and Forest Service National Greater Sage-Grouse Planning Strategy. Greater-Sage Grouse habitat within the planning area consists of:

• Priority Habitat Management Area (PHMA)—Areas identified as having the highest conservation value for maintaining sustainable greater sage-grouse populations; include breeding, late brood-rearing, and winter concentration areas.

• General Habitat Management Area (GHMA)—Areas of seasonal or year-round habitat outside of PHMA.

Alternative D supports management of greater sage-grouse seasonal habitats and maintaining habitat connectivity to achieve population objectives. Alternative D would limit or eliminate new surface disturbance in PHMA, while minimizing disturbance in GHMA.

The Proposed Plan provides for 127,735 acres of Greater Sage-Grouse PHMAs.

The BLM and Forest Service, via the Western Association of Fish and Wildlife Agencies (WAFWA) Management Zone Greater Sage-Grouse Conservation Team, will develop a Regional Mitigation Strategy to guide the application of the mitigation hierarchy to address impacts within that Zone. The Regional Mitigation Strategy should consider any State-level greater sage-grouse mitigation guidance that is consistent with the requirements. The Regional Mitigation Strategy will be developed in a transparent manner, based on the best science available and standardized metrics. Development of additional regional mitigation strategies for other resource programs may occur for implementation level decisions.

Instructions for filing a protest with the Director of the BLM regarding the Proposed RMP/Final EIS may be found in the “Dear Reader” Letter of the South Dakota Proposed RMP/Final EIS and at 43 CFR 1610.5-2. All protests must be in writing and be mailed to the appropriate address, as set forth in the ADDRESSES section above. Emailed protests will not be accepted as valid protests unless the protesting party also provides the original printed email by either regular or overnight mail, postmarked by the close of the protest period. Under these conditions, the BLM will consider the emailed protest as an advance copy and it will receive full consideration. If you wish to provide the BLM with such advance notification, please direct emails to protest@blm.gov.

Before including your address, phone number, email address, or other personal identifying information in your comment, be advised that your entire comment—including your personal identifying information—may be made publicly available at any time. While you can ask us in your comment to withhold from public review your personal identifying information, we cannot guarantee that we will be able to do so.

Authority: 40 CFR 1506.6, 40 CFR 1506.10, 43 CFR 1610.2, 43 CFR 1610.5

Jamie E. Connell,
State Director, Montana/Dakotas.

[FR Doc. 2015-12926 Filed 5-28-15; 8:45 am]

BILLING CODE 4310-DN-P